ELECTION ASSISTANCE COMMISSION

Sunshine Act Notice

AGENCY: United States Election Assistance Commission.

ACTION: Notice of Public Meeting for U.S. Election Assistance Commission Board of Advisors.

Date & Time: Wednesday, August 3, 2005, 6:30 p.m.-8:30 p.m., Thursday, August 4, 2005, 8:30 a.m.-5 p.m. and Friday, August 5, 2005, 8:30 a.m.-5 p.m.

Place: Portland Marriott City Center, 520 Southwest Broadway, Portland, OR 97205.

Purpose: The U.S. Election Assistance Commission (EAC) Board of Advisors, as required by the Help America Vote Act of 2002, will meet to consider and receive presentations on the Voluntary Voting System Guidelines proposed by EAC, to receive a presentation on the statewide voter registration list guidance adopted by EAC, to formulate recommendations to EAC, and to handle other administrative matters.

Any member of the public may file a written statement with the Board before, during, or after the meeting. To the extent that time permits, the Board may allow public presentation or oral statements at the meeting.

Person to Contact for Information: Bryan Whitener, Telephone: (202) 566-3100.

Thomas R. Wilkey,
Executive Director, U.S. Election Assistance Commission.

[FR Doc. 05-14641 Filed 7-20-05; 3:30 pm]

BILLING CODE 6820-KF-M